DEPARTMENT OF COMMERCE

Foreign-Trade Zones Board

[B-59-2019]

Foreign-Trade Zone (FTZ) 43—Battle Creek, Michigan; Notification of Proposed Production Activity; DENSO Manufacturing Michigan, Inc. (Automotive HVAC and Engine Cooling Products), Battle Creek, Michigan

DENSO Manufacturing Michigan, Inc. (DMMI) submitted a notification of proposed production activity to the FTZ Board for its facility in Battle Creek, Michigan. The notification conforming to the requirements of the regulations of the FTZ Board (15 CFR 400.22) was received on September 9, 2019.

The DMMI facility is located within FTZ 143. The facility is used for production of automotive HVAC and engine cooling components and systems. Pursuant to 15 CFR 400.14(b), FTZ activity would be limited to the specific foreign-status materials and components and specific finished products described in the submitted notification (as described below) and subsequently authorized by the FTZ Board.

Production under FTZ procedures could exempt DMMI from customs duty payments on the foreign-status components used in export production. On its domestic sales, for the foreign-status materials/components noted below, DMMI would be able to choose the duty rates during customs entry procedures that apply to: Fan assemblies; blower assemblies; shroud assemblies; HVAC units for automotive use; filter bases, heater cores, condensers, tubes, connectors, evaporators, joint blocks and separator sheets for automotive HVAC use; motor vehicle radiators; tubes, conduction assemblies, tanks, coolers, radiator assemblies, core plates, condensers, cores and core assemblies for use in motor vehicle radiators; and, oil coolers, duct assemblies and vents for use in motor vehicles (duty rate ranges from 1.4 to 2.5%). DMMI would be able to avoid duty on foreign-status components which become scrap/waste. Customs duties also could possibly be deferred or reduced on foreign-status production equipment.

The components and materials sourced from abroad include: Automotive compressor oil; brazing compound; various plastic tubes, pipes and hoses (ethylene; propylene; polyvinyl chloride; rigid; flexible; not reinforced without fittings; with fittings; and, reinforced); plastic fittings; self-adhesive strips, gaskets and seals; various plastic labels (ethylene and propylene); vulcanized fiber plastic seals; styrene plastic insulators; various plastic components (lids; caps; plugs; covers; valve stops; brackets; clamps; bushings; guides; doors; pipes; and, gaskets); various plates, sheets and strips (cellular and non-cellular rubber); various profiles, gaskets and seals (cellular and non-cellular rubber); various rubber tubes, pipes and hoses (not reinforced without fittings; not reinforced with fittings; and, reinforced with nylon braiding or polyester or aramid fibers without fittings); cellular rubber seals; various vulcanized rubber components (seals; o-rings; bushings; grommets; insulators; and, pipes); hard rubber bushings; paper name plates/labels; various wire (zinc plated or coated; stainless steel; and, alloy steel); circular cross-section alloy steel tubes, pipes and other hollows; various iron or steel components (seamless pipes; threaded self-tapping screws; bolts and their nuts/washers; machine screws; screws or bolts; threaded bolts or studs; threaded nuts; u-nuts; washers; pins; clamps; and, inserts, clips, clamps and seat cocks); various aluminum or aluminum alloy components (wire rolls; rectangular or square sheets; sheets; and, tubes and pipes); aluminum tube couplings, connectors, and pins; brackets, fin guards, supports and clamps of iron, steel, aluminum or zinc; brazing rings; fuel, lubricating or cooling pumps; hydraulic fluid, roller or other pumps; compressors; motors, fans and heat shields; fan shrouds, fan shroud inserts and spring clips; automotive HVAC units; various components for automotive HVAC units (caps; filter bases; heater cores; clips; filters; condensers; nylon dryer bags; pipes, hoses and tubes; evaporators; joint blocks; separator sheets and plates; tanks and cooling cases; connectors; cup plates; and, receiver assemblies); intercoolers and intercooler assemblies; intercooler support assemblies; intercooler ducts; air filters; air refrigerant filters; various valves (solenoid; regulator; and, expansion); ballcock mechanisms; valve magnets; valves with electrical, hydraulic, pneumatic or thermostatic actuators; various components for valves (cable controls; seat cocks; lever subassemblies; plates; damper subassemblies; and, shaft subassemblies); various valve components (doors; shafts; film; packing; and, tube and accessory assemblies); ball studs; electric motors under 18.65W; DC motors; electric heaters; various resistors (fixed and wire wound); thermistors; contactors and relays; boards, panels, modules and other controllers and control assemblies; transistors; integrated circuits; wire harnesses; radiators and radiator assemblies; various radiator components (aluminum plates; tubes and pipes; conduction assemblies; caps; tanks and reserve tanks; oil coolers; core plates; condensers; cores; coolers; and, core subassemblies); various automotive components (oil coolers; hoses; clamps; duct assemblies; and, vents); thermostats; pressure switches; and, pressure sensors (duty rate ranges from duty-free to 8.6%; $0.84/bbl). The request indicates that certain materials/components are subject to special duties under Section 232 of the Trade Expansion Act of 1962 (Section 232) or Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary and sent to: ftz@trade.gov. The closing period for their receipt is November 4, 2019.

A copy of the notification will be available for public inspection in the “Reading Room” section of the Board's website, which is accessible via www.trade.gov/ftz.

For further information, contact Juanita Chen at juanita.chen@trade.gov or 202-482-1378.

Dated: September 20, 2019.
Andrew McGilvray,
Executive Secretary.

[FR Doc. 2019-20819 Filed 9-24-19; 8:45 am]

BILLING CODE 3510-DS-P